ENVIRONMENTAL PROTECTION AGENCY

[EPA-HQ-OPP-2021-0015; FRL-8584-01-OCSPP]

Product Cancellation Order for Certain Pesticide Registrations

AGENCY: Environmental Protection Agency (EPA).

ACTION: Notice.

SUMMARY: This submission announces EPA's order for the cancellations, voluntarily requested by the registrants and accepted by the Agency, of the products listed in Table 1 & Table 1A of Unit II, pursuant to the Federal Insecticide, Fungicide, and Rodenticide Act (FIFRA). This cancellation order follows a May 11, 2021 Federal Register Notice of Receipt of Requests from the registrants listed in Table 2 of Unit II to voluntarily cancel these product registrations. In the May 11, 2021 notice, EPA indicated that it would issue an order implementing the cancellations, unless the Agency received substantive comments within the 30-day comment period that would merit its further review of these requests, or unless the registrants withdrew their requests. The Agency did not receive any comments on the notice. Further, the Agency received a notice from a registrant to withdraw a certain cancellation request. Accordingly, EPA hereby issues in this submission, a cancellation order granting the requested cancellations. Any distribution, sale, or use of the products subject to this cancellation order is permitted only in accordance with the terms of this order, including any existing stocks provisions.

DATES: The cancellations are effective July 20, 2021.

FOR FURTHER INFORMATION CONTACT: Christopher Green, Registration Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2021-0015, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Due to the public health concerns related to COVID-19, the EPA Docket Center (EPA/DC) and Reading Room is closed to visitors with limited exceptions. The staff continues to provide remote customer service via email, phone, and webform. For the latest status information on EPA/DC services and docket access, visit https://www.epa.gov/dockets.

II. What action is the Agency taking?

This submission announces the cancellation, as requested by registrants, of products registered under FIFRA section 3 (7 U.S.C. 136a). These registrations are listed in sequence by registration number in Table 1 & Table 1A of this unit.

Table 1—Product Cancellations
Registration No. | Company No. | Product name | Active ingredients
100-886 | 100 | Bicep Magnum | Atrazine & S-Metolachlor.
239-2661 | 239 | Homedefense Indoor & Outdoor Insect Killer 3 | Bifenthrin.
239-2687 | 239 | 0.3% Bifenthrin Liquid I&O Concentrate | Bifenthrin.
239-2698 | 239 | Home Defense Max Perimeter Insect Killer RTS | Bifenthrin.
239-2705 | 239 | Ortho Home Defense Max Outdoor Perimeter Insect Killer Ready-Spray II | Bifenthrin.
279-3056 | 279 | Talstar 2EC Insecticide/Miticide | Bifenthrin.
279-3086 | 279 | Talstar 9.8 WSB Insecticide/Miticide | Bifenthrin.
279-3087 | 279 | Talstar 9.9 WSB Insecticide/Miticide | Bifenthrin.
279-3121 | 279 | Biflex TCC Insecticide | Bifenthrin.
279-3122 | 279 | Biflex FTC Termiticide | Bifenthrin.
279-3152 | 279 | Biflex Residential Flowable Insecticide/Miticide | Bifenthrin.
279-3156 | 279 | Talstar GC Flowable Insecticide/Miticide | Bifenthrin.
279-3157 | 279 | Talstar ME Insecticide/Miticide | Bifenthrin.
279-3161 | 279 | Talstar RTU Insecticide/Miticide | Bifenthrin.
279-3162 | 279 | Talstar Lawn & Tree Flowable Insecticide/Miticide | Bifenthrin.
279-3163 | 279 | Talstar 0.2 G Lawn Granular Insecticide | Bifenthrin.
279-3166 | 279 | Talstar Fire Ant Destroyer | Bifenthrin.
279-3172 | 279 | Talstar 0.05 Lawn Granular Insecticide | Bifenthrin.
279-3173 | 279 | Talstar 0.1 Lawn Granular Insecticide | Bifenthrin.
279-3193 | 279 | Talstar GH Flowable Insecticide/Miticide | Bifenthrin.
279-3197 | 279 | Talstar 0.073 GU Granular Insecticide with Fertilizer | Bifenthrin.
279-3198 | 279 | Talstar 0.087 GL Granular Insecticide with Fertilizer | Bifenthrin.
279-3199 | 279 | Talstar 0.069 GU Granular Insecticide with Fertilizer | Bifenthrin.
279-3200 | 279 | Talstar 0.083 GU Granular Insecticide with Fertilizer | Bifenthrin.
279-3205 | 279 | Talstar FT Flowable Termiticide/Insecticide | Bifenthrin.
279-3212 | 279 | Talstar 0.069 GCGU Granular Insecticide | Bifenthrin.
279-3213 | 279 | Talstar 0.069 GUPT1 Granular Insecticide with 19-0-19 Fertilizer | Bifenthrin.
279-3224 | 279 | Talstar 0.073 GCGU Granular Insecticide with 19-0-19 Fertilizer | Bifenthrin.
279-3225 | 279 | Talstar 0.073 GCGUPT1 Granular Insecticide with 19-0-19 Fertilizer | Bifenthrin.
279-3226 | 279 | Talstar 0.073 GUPT1 Granular Insecticide with 19-0-19 Fertilizer | Bifenthrin.
279-3235 | 279 | Talstar 0.057 GURR Granular Insecticide with 19-0-19 Fertilizer | Bifenthrin.
279-3239 | 279 | Talstar 0.03% Granular Insecticide with 18-0-12 Fertilizer | Bifenthrin.
279-3252 | 279 | FMC 01-0004 Insecticide | Bifenthrin.
279-3253 | 279 | FMC 01-0004-2 Insecticide | Bifenthrin.
279-3264 | 279 | F1785 GH 50 WG Insecticide | Flonicamid.
279-3277 | 279 | F1785 N 50 WG Insecticide | Flonicamid.
279-3311 | 279 | Bifenthrin 8% ME Termiticide/Insecticide | Bifenthrin.
279-3314 | 279 | F5997 ME Insecticide/Miticide | Pyriproxyfen & Bifenthrin.
279-3335 | 279 | F6320 Granular Insecticide | Bifenthrin.
279-3364 | 279 | F8028-1 Aerosol | Bifenthrin.
279-3367 | 279 | F6288 SC Liquid Insecticide | Bifenthrin & Imidacloprid.
279-9553 | 279 | Intruder Residual with Cyfluthrin | Piperonyl butoxide; Pyrethrins & Cyfluthrin.
279-9604 | 279 | Finesse Grass & Broadleaf Herbicide | Flucarbazone-sodium & Chlorsulfuron.
352-778 | 352 | Dupont Require Q Herbicide | Dicamba & Rimsulfuron.
352-831 | 352 | Dupont DPX-B2856 4.5 Herbicide | Glycine, N-(phosphonomethyl)-potassium salt & Glyphosate-isopropylammonium.
400-600 | 400 | Flupro-EC | Flumetralin.
432-1407 | 432 | Allectus G Insecticide | Bifenthrin & Imidacloprid.
432-1416 | 432 | Allectus GC Granular Insecticide | Bifenthrin & Imidacloprid.
432-1418 | 432 | Allectus 0.18 G Plus Turf Fertilizer Insecticide | Bifenthrin & Imidacloprid.
432-1419 | 432 | Allectus 0.15 G Plus Turf Fertilizer Insecticide | Bifenthrin & Imidacloprid.
432-1421 | 432 | Allectus GC SC Insecticide | Bifenthrin & Imidacloprid.
432-1426 | 432 | Allectus 0.18 GC Plus Turf Fertilizer Insecticide | Bifenthrin & Imidacloprid.
432-1428 | 432 | Allectus 0.15 GC Plus Turf Fertilizer Insecticide | Bifenthrin & Imidacloprid.
499-529 | 499 | TC-251A | Permethrin.
499-551 | 499 | TC 251C | Permethrin.
2693-60 | 2693 | Fiberglass Bottom Kote 449 Red | Cuprous oxide.
3862-158 | 3862 | Weedzout | Bromacil, lithium salt.
4959-23 | 4959 | Iosan | Nonylphenoxypolyethoxyethanol—iodine complex & Phosphoric acid.
8329-73 | 8329 | ULV Mosquito Master 2+6 | Permethrin & Chlorpyrifos.
8329-115 | 8329 | Phoenix | Prallethrin; Phenothrin & Piperonyl butoxide.
9688-227 | 9688 | Chemsico Herbicide Granules AN | Atrazine.
9688-274 | 9688 | Chemsico Granules LAH | lambda-Cyhalothrin & Atrazine.
10324-89 | 10324 | Maquat MC5814-80% | Alkyl* dimethyl benzyl ammonium chloride *(58%C14, 28%C16, 14%C12).
10324-139 | 10324 | Maquat TC76-40% | Dialkyl* methyl benzyl ammonium chloride *(60% C14, 30% C16, 5% C18, 5% C12) & Alkyl* dimethyl benzyl ammonium chloride *(60%C14, 30%C16, 5%C18, 5%C12).
10324-140 | 10324 | Maquat MQ2525M-CPV | Alkyl* dimethyl benzyl ammonium chloride *(60%C14, 30%C16, 5%C18, 5%C12) & Alkyl* dimethyl ethylbenzyl ammonium chloride *(68%C12, 32%C14).
10324-149 | 10324 | Maquat TC76-80% | Dialkyl* methyl benzyl ammonium chloride *(60% C14, 30% C16, 5% C18, 5% C12) & Alkyl* dimethyl benzyl ammonium chloride *(60%C14, 30%C16, 5%C18, 5%C12).
10324-187 | 10324 | Maquat-1010N-10% | 1-Decanaminium, N-decyl-N,N-dimethyl-, chloride.
26883-10 | 26883 | High Performance Chem Copp | Cuprous oxide.
34704-920 | 34704 | Quinclorac 75DF Herbicide | Quinclorac.
42750-41 | 42750 | Dicambazine | Atrazine & Dicamba, potassium salt.
42750-44 | 42750 | Atrazine 4L | Atrazine.
42750-45 | 42750 | Weed Pro Atrazine 4L Herbicide | Atrazine.
42750-50 | 42750 | Brox-AT Herbicide | Bromoxynil octanoate & Atrazine.
42750-53 | 42750 | Albaugh Atrazine 90 DF | Atrazine.
45168-1 | 45168 | VC 17M Antifouling | Copper as elemental.
55467-6 | 55467 | Volley ATZ Lite Tenkoz Herbicide | Atrazine & Acetochlor.
55467-7 | 55467 | Volley ATZ Tenkoz Herbicide | Atrazine & Acetochlor.
55467-8 | 55467 | Volley Tenkoz Herbicide | Acetochlor.
59639-106 | 59639 | Atrazine 90 DF Herbicide | Atrazine.
66222-163 | 66222 | N-Lock Nitrogen Stabilizer | Nitrapyrin.
70506-214 | 70506 | Super Tin 80WP | Fentin hydroxide.
70506-228 | 70506 | Trike | Triclopyr, triethylamine salt.
70506-292 | 70506 | UPI Captan 50 WP | Captan.
70506-293 | 70506 | UPI Captan 80 WDG | Captan.
71368-119 | 71368 | Nufarm Leopard Herbicide | Glufosinate.
84009-33 | 84009 | RM43 RTU | Imazapyr, isopropylamine salt & Glyphosate-isopropylammonium.
85063-1 | 85063 | Ethylene Release Canister ERC | Ethylene.
93923-1 | 93923 | Dicamba Technical | Dicamba.
93923-2 | 93923 | Dicamba Diglycolamine Salt SL | Dicamba, diglycolamine salt.
93923-3 | 93923 | Dicamba Dimethylamine Salt SL | Dicamba, dimethylamine salt.
DE-120005 | 69969 | Avipel (Dry) Corn Seed Treatment | Anthraquinone.
ID-150010 | 70506 | Hydrothol 191 Aquatic Algicide and Herbicide | Endothall, mono (N,N,-dimethyl alkyl amine) salt.
ID-180008 | 69969 | Avipel Hopper Box (Dry) Corn Seed Treatment | Anthraquinone.
MN-120002 | 69969 | Avipel (Dry) Corn Seed Treatment | Anthraquinone.
OK-100003 | 279 | Transport Termiticide-Insecticide | Bifenthrin & Acetamiprid.
SD-130004 | 69969 | Avipel (Dry) Corn Seed Treatment | Anthraquinone.
SD-150007 | 69969 | Avipel (Dry) Corn Seed Treatment | Anthraquinone.
WI-130003 | 69969 | Avipel (Dry) Corn Seed Treatment | Anthraquinone.
WI-150005 | 69969 | Avipel (Dry) Corn Seed Treatment | Anthraquinone.
WY-140002 | 69969 | Avipel (Dry) Corn Seed Treatment | Anthraquinone.

Table 1A—Product Cancellations
Registration No. | Company No. | Product name | Active ingredients
1021-2600 | 1021 | Veratran D | Sabadilla alkaloids.

The registrant for the pesticide product registration listed in Table 1A has requested to the Agency via letter, that the cancellation becomes effective September 30, 2022.

Table 2 of this unit includes the names and addresses of record for all registrants of the products in Table 1 & Table 1A of this unit, in sequence by EPA company number. This number corresponds to the first part of the EPA registration numbers of the products listed in Table 1 of this unit.

Table 2—Registrants of Cancelled Products
EPA Company No. | Company name and address
100 | Syngenta Crop Protection, LLC, 410 Swing Road, P.O. Box 18300, Greensboro, NC 27419-8300.
239 | The Scotts Company, d/b/a The Ortho Group, 14111 Scottslawn Road, Marysville, OH 43041.
279 | FMC Corporation, 2929 Walnut Street, Philadelphia, PA 19104.
352 | E. I. Du Pont De Nemours and Company, 9330 Zionsville Road, Indianapolis, IN 46268.
400 | MacDermid Agricultural Solutions, Inc., Agent Name: UPL NA, Inc., 630 Freedom Business Center, Suite 402, King of Prussia, PA 19406.
432 | Bayer Environmental Science, A Division of Bayer CropScience, LP, 700 Chesterfield Parkway West, Chesterfield, MO 63017.
499 | BASF Corporation, 26 Davis Drive, P.O. Box 13528, Research Triangle Park, NC 27709-3528.
1021 | McLaughlin Gormley King Company, d/b/a MGK, 7325 Aspen Lane N, Minneapolis, MN 55428.
2693 | International Paint, LLC, 6001 Antoine Drive, Houston, TX 77091.
3862 | ABC Compounding Co., Inc., P.O. Box 16247, Atlanta, GA 30321.
4959 | West Agro, Inc., 11100 N Congress Ave., Kansas City, MO 64153.
8329 | Clarke Mosquito Control Products, Inc., 675 Sidwell Court, St. Charles, IL 60174.
9688 | Chemsico, A Division of United Industries Corp., P.O. Box 142642, St. Louis, MO 63114-0642.
10324 | Mason Chemical Company, 9075 Centre Pointe Dr., Suite 400, West Chester, OH 45069.
26883 | American Chemet Corporation, Agent Name: TSG Consulting, 1150 18th Street NW, Suite 1000, Washington, DC 20036.
34704 | Loveland Products, Inc., P.O. Box 1286, Greeley, CO 80632-1286.
42750 | Albaugh, LLC, 1525 NE 36th Street, Ankeny, IA 50021.
45168 | Extensor AB, Agent Name: International Paint, LLC, 6001 Antoine Drive, Houston, TX 77091.
55467 | Tenkoz, Inc., 1725 Windward Concourse, Suite 410, Alpharetta, GA 30005.
59639 | Valent U.S.A. LLC, 4600 Norris Canyon Road, P.O. Box 5075, San Ramon, CA 94583.
66222 | Makhteshim Agan of North America, Inc., d/b/a Adama, 3120 Highwoods Blvd., Suite 100, Raleigh, NC 27604.
69969 | Arkion Life Sciences, LLC, Agent Name: Landis International, Inc., 3815 Madison Highway, P.O. Box 5126, Valdosta, GA 31603-5126.
70506 | UPL NA, Inc., 630 Freedom Business Center, Suite 402, King of Prussia, PA 19406.
71368 | NuFarm, Inc., Agent Name: NuFarm Americas, Inc., 4020 Aerial Center Pkwy., Suite 101, Morrisville, NC 27560.
84009 | Ragan and Massey, Inc., Agent Name: Pyxis Regulatory Consulting, Inc., 4110 136th St. Ct. NW, Gig Harbor, WA 98332.
85063 | Balchem Corporation, 52 Sunrise Park Road, New Hampton, NY 10958.
93923 | Hy-Green, LLC, Agent Name: Wagner Regulatory Associates, Inc., P.O. Box 640, Hockessin, DE 19707.

III. Summary of Public Comments Received and Agency Response to Comments

During the public comment period provided, EPA received no comments in response to the May 11, 2021 Federal Register notice announcing the Agency's receipt of the requests for voluntary cancellations of products listed in Table 1 & Table 1A of Unit II; however, the registrant FMC Corporation, withdrew their request for cancellation of the product registration 279-3333; therefore, this product registration has been removed from this cancellation order.

IV. Cancellation Order

Pursuant to FIFRA section 6(f) (7 U.S.C. 136d(f)), EPA hereby approves the requested cancellations of the registrations identified in Table 1 & Table 1A of Unit II. Accordingly, the Agency hereby orders that the product registrations identified in Table 1 of Unit II are canceled. The effective date of the cancellations that are the subject of this document is July 20, 2021. Any distribution, sale, or use of existing stocks of the products identified in Table 1 & Table 1A of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of May 11, 2021 (86 FR 25861) (FRL-10023-30). The comment period closed on June 10, 2021.

VI. Provisions for Disposition of Existing Stocks

Existing stocks are those stocks of registered pesticide products which are currently in the United States and which were packaged, labeled, and released for shipment prior to the effective date of the cancellation action. The existing stocks provisions for the products subject to this order are as follows.

A. For Products 400-600, 10324-89, 10324-139, 10324-140, 10324-149, 10324-187, 34704-920, 70506-214, 70506-292 & 70506-293

For products 400-600, 10324-89, 10324-139, 10324-140, 10324-149, 10324-187, 34704-920, 70506-214, 70506-292 & 70506-293, the registrants have requested 18-months to sell existing stocks. Because the Agency has identified no significant potential risk concerns associated with these pesticide products, upon cancellation of these product cancellations, identified in Table 1of Unit II, EPA anticipates allowing registrants to sell and distribute existing stocks of these voluntarily canceled products for 18-months after the effective date of the publication of the Cancellation Order in the Federal Register. Thereafter, registrants will be prohibited from selling or distributing these products identified in Table 1 of Unit II, except for export consistent with FIFRA section 17 (7 U.S.C. 136o) or for proper disposal.

B. For Product 1021-2600

For product 1021-2600, the registrant has requested that the cancellation becomes effective September 30, 2022. Because the Agency has identified no significant potential risk concerns associated with this pesticide product, upon cancellation of this product cancellation, identified in Table 1A of Unit II, EPA anticipates allowing registrants to sell and distribute existing stocks of this voluntarily canceled product for 1 year after the effective date of the product cancellation, which will be September 30, 2023. Thereafter, registrants will be prohibited from selling or distributing this product identified in Table 1A of Unit II, except for export consistent with FIFRA section 17 (7 U.S.C. 136o) or for proper disposal.

The registrants may continue to sell and distribute existing stocks of all other products listed in Table 1 of Unit II until July 20, 2022, which is 1 year after the publication of the Cancellation Order in the Federal Register. Thereafter, the registrants are prohibited from selling or distributing all other products listed in Table 1, except for export in accordance with FIFRA section 17 (7 U.S.C. 136o), or proper disposal. Persons other than the registrants may sell, distribute, or use existing stocks of products listed in Table 1 & Table 1A of Unit II until existing stocks are exhausted, provided that such sale, distribution, or use is consistent with the terms of the previously approved labeling on, or that accompanied, the canceled products.

Authority: 7 U.S.C. 136 et seq.

Dated: July 9, 2021.
Marietta Echeverria,
Director, Registration Division, Office of Pesticide Programs.

[FR Doc. 2021-15394 Filed 7-19-21; 8:45 am]

BILLING CODE 6560-50-P